DEPARTMENT OF TRANSPORTATION

Federal Railroad Administration

Petition for Waiver of Compliance

In accordance with part 211 of Title 49 Code of Federal Regulations (CFR), notice is hereby given that the Federal Railroad Administration (FRA) received a request for a waiver of compliance from certain requirements of its safety regulations. The individual petition is described below including the party seeking relief, the regulatory provisions involved, the nature of the relief being requested, and the petitioner's arguments in favour of relief.

Burlington Northern and Santa Fe Railway Company (Docket Number FRA-2003-15339)

The Burlington Northern and Santa Fe Railway Company (BNSF) seeks a waiver of compliance from certain provisions of 49 CFR part 232, Brake System Safety Standards for Freight and Other Non-Passenger Trains and Equipment. Specifically, § 232.103(n)(3)(i), which requires that “all hand brakes shall be fully applied on all locomotives in the lead consist of an unattended train.” BNSF seeks to permit the application of BNSF Rules (outlined below), relating to the securement of unattended trains, thereby avoiding the unnecessary application of hand brakes on locomotives attached to trains that are already secure within the confines or limits of a terminal or yard. BNSF believes their rules are adequate to meet the highest safety standards for securement of unattended equipment.

BNSF seeks to use the following rules to provide for the safe handling of standing equipment within a terminal or any location:

Securing Equipment Against Movement

Crew members are responsible for securing standing equipment with hand brakes to prevent undesired movement. The air brake system must not be depended upon to prevent an undesired movement. Use the following steps to determine the hand brakes to be applied:

• When setting out cars on a grade with slack bunched, apply the hand brakes on the low end of the cut of cars.

• When setting out cars on a grade with slack stretched, apply the hand brakes on the high end of the cut of cars.

Determining the number of hand brakes to be applied depends on:

• Grade and adhesion;

• Number of loaded and empty cars;

• Weather conditions (wind and temperature).

Note: Reference Rule 104.14 for hand brake guidelines. To verify the hand brake(s) applied will prevent movement, release all air brakes. All retainer valves must be in EXHAUST position.

Securing an Unattended Train or Portion of Train with Locomotive Attached

To secure a train or a portion of a train with the lead locomotive attached, perform the steps below:

1. Secure equipment against undesired movement;

2. Release all air brakes to ensure hand brakes will prevent movement;

3. Secure the locomotives as outlined in Rule 102.3.

Securing Train Before Detaching Locomotives

When any part of a train is left standing and train brake inspection is not required, do not depend on the air brake system to secure the cars.

When detaching locomotives or locomotives and cars:

1. Secure equipment against undesired movement;

2. Release all air brakes to ensure hand brakes will prevent movement;

3. Make a 20-psi brake pipe reduction;

4. Close angle cock on rear locomotive or last car to be detached from portion left standing. Leave angle cock open on portion left standing;

5. Allow brakes on any standing portion to apply in emergency. When available, use the end-of-train telemetry device to make sure that brake pipe pressure drops to 0 psi;

6. Do not bottle air or maintain air pressure in the brake pipe when locomotives are detached or yard air is uncoupled. However, after the brake pipe pressure has completely exhausted, the angle cock on the standing portion of the train may be closed to allow a locomotive to switch the cars from the opposite end.

Exception: When separating a train in temperatures below 25 degrees F and the train is on a light grade, (see Glossary) follow the steps in Rule 100.17 (Inbound Train Inspection) to prevent vent valves from sticking open.

Unattended Locomotives

When securing locomotives:

1. Place the throttle in IDLE unless you are protecting the engine from freezing (see Rule 106.2, Winterization of Locomotives);

2. Place the transition handle (if equipped) in the OFF position;

3. Place the generator field switch or the circuit breaker on the control stand (if equipped) in the OFF position;

4. Remove the reverser handle from the reverser slot on the control stand and place it in the receptacle, if equipped. Do not remove the reverser handle if you need to increase the throttle position to prevent freezing;

5. On locomotives coupled to other equipment, apply hand brakes on all locomotives outside of a terminal or yard and a minimum of one hand brake on locomotives within a terminal or yard. In compliance with Rule 102.1, release air brakes to determine hand brakes will prevent movement. Note: A terminal or yard refers to a location where there is routine activity such as switching service, train inspections and/or employees reporting for duty;

6. Make a 20-psi automatic brake pipe reduction after allowing the brake system to charge;

7. Leave the automatic brake valve cut in;

8. Fully apply the independent brake;

9. Place engine control switch to ISOLATE on all locomotives unless conditions require winter protection as prescribed by Rule 106.2 and Rule 106.6.

Additional Securement Guidelines for Unattended Locomotives Not Coupled to Other Equipment

10. Must not be left unattended on a main track;

11. When left unattended on auxiliary tracks, must be protected by derail(s) or a facing point switch lined and locked to prevent movement to the main track;

12. If grade exceeds 1 percent, block the wheels securely;

13. Must have all hand brakes applied. In compliance with Rule 102.1, release locomotive brakes to determine hand brakes will prevent movement.

Exceptions: Distributed power remote locomotives, when on unattended trains, do not require hand brakes to be applied or engine control switch to be placed in ISOLATE when train is otherwise properly secured. Distributed power remote consists may be left standing with all hand brakes applied at any location, even on the main track, when in the process of making up a DP train.

At mechanical facilities when locomotives are protected by outbound derails on designated servicing tracks, apply a sufficient number of hand brakes to prevent undesired movement, but a minimum of one per locomotive consist.

BNSF believes that the foregoing rules ensure that any train left unattended will remain in place, even when the train airbrake system is released. Therefore, BNSF rules provide ample protection of unattended equipment and no additional safety concerns are present.

BNSF contends that several safety benefits that will be gained if FRA grants this waiver petition. First, the potential for injury to railroad workers will be reduced. Each year, there are several injuries which result from using improper procedures to apply hand brakes. By minimizing the opportunity for employees to perform this task, the risk for injury will likewise be reduced. BNSF states that their safety record evidences this fact in that there have been no accidents or injuries within Terminal/Yard Limits when the above BNSF Rules have been followed. In analyzing safety risks and benefits, BNSF believes that there are no adverse consequences or costs that will accrue from granting this petition. There are no anticipated costs to the private sector, consumer, or federal, state, and local governments as a result of FRA granting this waiver.

Interested parties are invited to submit written comments to FRA. All written communications concerning this petition should identify the appropriate docket number (e.g., Docket Number FRA-2003-15339) and must be submitted in triplicate to the Associate Administrator for Safety, Federal Railroad Administration, 400 7th Street, SW., Washington, DC 20590-0001. Comments received within 45 days of the date of this notice will be considered by FRA before any final action is taken. Although FRA does not anticipate scheduling a public hearing in connection with these proceedings, if any interested party desires an opportunity for oral comment, they should notify FRA in writing before the end of the comment period and specify the basis for their request. All written communications concerning these proceedings are available for examination during regular business hours (9 a.m.-5 p.m.) at the Central Docket Management Facility, Room PL-401 (Plaza Level), 400 7th Street, SW., Washington, DC 20590.

All documents in the public docket are also available for inspection and copying on the Internet at the docket facility's Web site http://dms.dot.gov. Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) at http://dms.dot.gov.

Issued in Washington, DC, on June 19, 2003.
Grady C. Cothen, Jr.,
Deputy Associate Administrator for Safety Standards and Program Development.

[FR Doc. 03-16368 Filed 6-27-03; 8:45 am]

BILLING CODE 4910-06-P